DEPARTMENT OF HEALTH AND HUMAN SERVICES

Administration for Children and Families

Submission for OMB Review; Comment Request

Title: Federal Case Registry (FCR).

OMB No.: 0970-0421.

Description: States are required to create and update a State Case Registry (SCR) within their statewide automated child support systems, to include information on cases enforced by state child support agencies (IV-D) and cases not enforced by those agencies (non-IV-D), including cases enforced by the courts.

The Federal Case Registry (FCR) consisting of child support orders informs states which other state(s) has information on cases or participants of interest to them. States are required to furnish to the FCR the minimum amount of information on child support cases (including updates to those cases) recorded in the SCR that is necessary to operate the FCR. The information alerts states to other states that have registered the same individual. The FCR automatically provides states with address, employment, and unemployment information to locate these parents and their employers to either establish or enforce a child support order. This information collection pertains to information collected from courts and transmitted to the FCR.

The activities associated with this information collection are authorized by (1) 42 U.S.C. 654a(e)which requires that state child support agencies establish, update, maintain, and monitor an automated state case registry containing records pertaining to cases enforced by the child support agencies and order information pertaining to all cases, including cases not enforced by the child support agencies, using standardized data elements and including payment records; and (2) 42 U.S.C. 654a(f)(1), which requires states to furnish certain state case registry information to the FCR, an automated registry established within the Federal Parent Locator Service, to assist state child support enforcement agencies and for other purposes.

Respondents: State Child Support Agencies and Courts.

Annual Burden Estimates
Instrument | Number of respondents | Number of responses per respondent | Average burden hours per response | Total burden hours
Collection of Non-IV-D Data for SCR: Courts | 3,144 | 454 | .0205 | 29,261.21
Collection of Child Data for IV-D Cases for SCR: Courts | 3,144 | 158 | .0205 | 10,183.42
State IV-D Agencies: Manual Entry of Court-Provided Case Information | 54 | 14,253 | .033333 | 25,655.14

Estimated Total Annual Burden Hours: 65,100.

Additional Information

Copies of the proposed collection may be obtained by writing to the Administration for Children and Families, Office of Planning, Research and Evaluation, 370 L'Enfant Promenade SW., Washington, DC 20447, Attn: ACF Reports Clearance Officer. All requests should be identified by the title of the information collection. Email address: infocollection@acf.hhs.gov.

OMB Comment

OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV, Attn: Desk Officer for the Administration for Children and Families.

Robert Sargis,
Reports Clearance Officer.

[FR Doc. 2014-12656 Filed 5-30-14; 8:45 am]

BILLING CODE 4184-01-P